ENVIRONMENTAL PROTECTION AGENCY

[ER-FRL-9035-5]

Environmental Impact Statements; Notice of Availability

Responsible Agency: Office of Federal Activities, General Information (202) 564-7146 or http://www2.epa.gov/nepa/.

Weekly receipt of Environmental Impact Statements (EIS)

Filed 09/25/2017 Through 09/29/2017

Pursuant to 40 CFR 1506.9.

Notice

Section 309(a) of the Clean Air Act requires that EPA make public its comments on EISs issued by other Federal agencies. EPA's comment letters on EISs are available at: https://cdxnodengn.epa.gov/cdx-nepa-public/action/eis/search.

EIS No. 20170190, Draft, USACE, CA, Ballona Wetlands Restoration Project, Comment Period Ends: 11/24/2017, Contact: Daniel Swenson 213-452-3414

EIS No. 20170191, Final Supplement, USAF, AK, F-35A Operational Beddown—Pacific, Review Period Ends: 11/05/2017, Contact: Mike Ackerman 210-925-2741

EIS No. 20170192, Draft Supplement, FERC, FL, Southeast Market Pipelines Project, Comment Period Ends: 11/20/2017, Contact: John Peconom 202-502-6352

EIS No. 20170193, Final, USACE, CA, Berths 226 to 236 [Everport] Container Terminal Improvements Project, Review Period Ends: 11/06/2017, Contact: Theresa Stevens 805-585-2146

EIS No. 20170194, Final, BLM, NV, Gold Bar Mine Project, Review Period Ends: 11/05/2017, Contact: Christine Gabriel 775-635-4164

EIS No. 20170195, Revised Draft, USFS, CA, Lassen National Forest Over-Snow Vehicle (OSV) Use Designation, Comment Period Ends: 11/20/2017, Contact: Chris Obrien 530-252-6698

EIS No. 20170196, Final Supplement, USACE, CA, Folsom Dam Raise Project, Review Period Ends: 11/05/2017, Contact: Victoria Hermanson 916-557-7330

EIS No. 20170197, Final, FAA, OR, ADOPTION—Proposed Establishment and Modification of Oregon Military Training Airspace, Contact: Paula Miller 202-267-7378

Dated: October 2, 2017.
Kelly Knight,
Director, NEPA Compliance Division, Office of Federal Activities.

[FR Doc. 2017-21548 Filed 10-5-17; 8:45 am]

BILLING CODE 6560-50-P